DEPARTMENT OF TRANSPORTATION

Research and Special Programs Administration

49 CFR Parts 171, 172, 173, and 175

[Docket No. RSPA-04-19886 (HM-224E)]

RIN 2137-AE05

Hazardous Materials; Prohibition on the Transportation of Primary Lithium Batteries and Cells Aboard Passenger Aircraft; Notice of Public Meeting

AGENCY: Research and Special Programs Administration (RSPA), DOT.

ACTION: Notice of public meeting.

SUMMARY: This notice announces a public meeting to be held on January 27, 2005, to solicit public comments on amendments to the Hazardous Materials Regulations adopted by RSPA in an interim final rule published on December 15, 2004. This interim final rule imposed a limited prohibition on offering for transportation and transportation of primary (non-rechargeable) lithium batteries and cells as cargo aboard passenger-carrying aircraft.

DATES: Comments date. Submit comments for presentation at the public meeting by January 20, 2005. We will consider comments received during this public meeting in making our decision on a final rule. Submit comments on the interim final rule by February 14, 2005.

Public Meeting Date. The public meeting will be held from 9:30 a.m. to 4 p.m. on Thursday, January 27, 2005.

ADDRESSES: Public Meeting. The public meeting will be held in Room 2230 at the U.S. Department of Transportation Headquarters Building, 400 Seventh Street, SW., Washington, DC. For information on facilities or services for persons with disabilities or to request special assistance at the meeting, please contact Mr. Darral Relerford at 202-366-8553 as soon as possible.

Comments. Written comments on the interim final rule may be submitted at the public meeting, or sent by mail to Dockets Management System, U.S. Department of Transportation PL-401, 400 Seventh Street, SW., Washington, DC 20590-0001. Comments should identify Docket Number RSPA-04-19886 (HM-224E) and be submitted in 2 copies. Comments may also be hand delivered to PL-401 on the Plaza level of the Nassif Building, 400 Seventh Street, SW., Washington, DC, between 9 a.m. and 5 p.m., Monday through Friday, except Federal holidays. You may also provide electronic comments via the DOT Web site at: http://dms.dot.gov. Follow the instructions for submitting comments on the DOT electronic docket site.

FOR FURTHER INFORMATION CONTACT: Darral Relerford (202) 366-8553, Office of Hazardous Materials Standards, (202) 366-8553, Research and Special Programs Administration: or John A. Gale, (202) 366-8553, Office of Hazardous Materials Standards, (202) 366-8553, Research and Special Programs Administration. Any person wishing to present an oral statement at the public meeting should notify Mr. Relerford before the public meeting.

SUPPLEMENTARY INFORMATION:

Background

On December 15, 2004, the Research and Special Programs Administration (RSPA, we) published an interim final rule (IFR) (69 FR 75207) under Docket RSPA-04-19886 (HM-224E) imposing a limited prohibition on offering for transportation and transportation of primary (non-rechargeable) lithium batteries and cells as cargo aboard passenger-carrying aircraft and equipment containing or packed with large primary lithium batteries. These prohibitions took effect on December 29, 2004. The IFR applies to both foreign and domestic passenger-carrying aircraft entering, leaving, or operating in the United States and to persons offering primary lithium batteries and cells for transportation as cargo on any passenger-carrying aircraft. The IFR allows the carriage of lithium batteries or devices containing lithium batteries that are transported for personal use by a passenger in carry-on or checked luggage, with certain limits. In addition, the IFR allows the shipment of equipment that contains or is packed with small primary lithium batteries with certain limits, and the continued shipment of secondary (rechargeable) lithium batteries (e.g., lithium ion batteries). The IFR also requires packages of primary lithium batteries and cells that are excepted from classification as a Class 9 (miscellaneous) hazardous material, to be marked when offered for transport as cargo in any mode, to indicate that they are forbidden for transport aboard passenger-carrying aircraft.

Public Meeting

To facilitate public comments on the IFR, we are hosting a public meeting on January 27, 2005. The public meeting will provide an informal forum for interested persons to offer comments on the HM-224E IFR. A transcript of this meeting will be prepared and submitted to the docket. We anticipate significant public interest in this rulemaking; therefore, we ask that you limit your remarks to 10 minutes to assure that all participants have an opportunity to speak. The meeting may conclude earlier than scheduled if all persons wishing to offer comments have been heard.

Issued in Washington, DC on January 7, 2005.
Frits Wybenga,
Deputy Associate Administrator for Hazardous Materials Safety.

[FR Doc. 05-736 Filed 1-12-05; 8:45 am]

BILLING CODE 4910-60-P